DEPARTMENT OF THE INTERIOR

Bureau of Ocean Energy Management

[Docket No. BOEM-2023-0061]

Notice of Availability of the California Offshore Wind Draft Programmatic Environmental Impact Statement; Correction

AGENCY: Bureau of Ocean Energy Management, Interior.

ACTION: Notice of availability; correction.

SUMMARY: BOEM published a document in the Federal Register of November 14, 2024, concerning a Notice of Availability for the California Offshore Wind Draft Programmatic Environmental Impact Statement. The document contained the incorrect start date of the 90-day comment period.

FOR FURTHER INFORMATION CONTACT: Lisa Gilbane, Chief, Environmental Analysis Section, Bureau of Ocean Energy Management, Camarillo, California Office, 760 Paseo Camarillo, Suite 102, Camarillo, CA 93010, (805) 384-6387 or lisa.gilbane@boem.gov.

SUPPLEMENTARY INFORMATION:

Correction

In the Federal Register of November 14, 2024, in FR Doc. 2024-26424, at 89 FR 90051, in the second column, correct “Submission of Public Comments” to read: The 90-day comment period began on November 14, 2024.

Douglas P. Boren,
Pacific Regional Director, Bureau of Ocean Energy Management.

[FR Doc. 2024-29103 Filed 12-10-24; 8:45 am]

BILLING CODE 4340-98-P